DEPARTMENT OF JUSTICE

Notice of Lodging of Consent Decree Under the Clean Water Act

Notice is hereby given that on December 20, 2012, a proposed Consent Decree in United States v. Authority for the Port of The Americas, Civ. A. No. 12-2033(JAG), was lodged with the United States Court for the District of Puerto Rico.

The Complaint filed in this action alleges that the Authority for the Port of Las Americas, Puerto Rico (“the Authority”), violated various provisions of a permit issued under Section 404 of the Clean Water Act, 33 U.S.C. 1344, and the Rivers and Harbor Act, 33 U.S.C. 403, in connection with development and construction of the port facilities. Pursuant to the attached proposed Consent Decree, the Authority would pay a civil penalty of $150,000, and will deposit $4,200,000.00 into an escrow account for use for In-Lieu-Fee-Mitigation over a period of three (3) years.

The U.S. Attorney's Office will receive for a period of thirty (30) days from the date of this publication comments relating to the Consent Decree. Comments should be addressed to Isabel Muñoz-Acosta, Assistant U.S. Attorney, and either emailed to isabel.munoz@usdoj.gov or mailed to U.S. Attorney's Office, Torre Chardón, Suite 1201, 350 Carlos Chardón Street, San Juan, Puerto Rico 00918, and should refer to United States v. Authority for the Port of The Americas, Civil No. 12-2033(JAG).

During the public comment period, the Consent Decree may also be examined on the following Department of Justice Web site, to http.//www.usdoj.gov/enrd/Consent_Decrees.html.

A copy of the Consent Decree may also be obtained in the U.S. Attorney's Office, located at Torre Chardón, Suite 1201, 350 Carlos Chardón Street, San Juan, PR 00918.

Isabel Muñoz-Acosta, Assistant U.S. Attorney, USDC-PR #128302, Torre Chardón, Suite 1201, 350 Carlos Chardón Street, San Juan, Puerto Rico 00918, Telephone: (787) 766-5656, Facsimile: (787) 766-6219.

Rosa Emilia Rodríguez-Vélez,
United States Attorney.

[FR Doc. 2013-08208 Filed 4-8-13; 8:45 am]

BILLING CODE P